COMMISSION ON CIVIL RIGHTS

Notice of Public Meeting of the Florida Advisory Committee

AGENCY: U.S. Commission on Civil Rights.

ACTION: Announcement of meeting.

SUMMARY: Notice is hereby given, pursuant to the provisions of the rules and regulations of the U.S. Commission on Civil Rights (Commission) and the Federal Advisory Committee Act that the Florida Advisory Committee (Committee) will hold a meeting on Monday, December 3, 2018, at 1:00 p.m. (EST) for the purpose discussing civil rights concerns in the state.

DATES: The meeting will be held on Monday, December 3, 2018, at 1:00 p.m. (EST).

Public Call Information: Dial: 877-260-1479, Conference ID: 5812789.

FOR FURTHER INFORMATION CONTACT: Jeff Hinton, DFO, at jhinton@usccr.gov

SUPPLEMENTARY INFORMATION: Members of the public can listen to the discussion. This meeting is available to the public through the toll-free call-in number dial: 877-260-1479, Conference ID: 5812789. An open comment period will be provided to allow members of the public to make a statement as time allows. The conference call operator will ask callers to identify themselves, the organization they are affiliated with (if any), and an email address prior to placing callers into the conference room. Callers can expect to incur regular charges for calls they initiate over wireless lines, according to their wireless plan. The Commission will not refund any incurred charges. Callers will incur no charge for calls they initiate over land-line connections to the toll-free telephone number. Persons with hearing impairments may also follow the proceedings by first calling the Federal Relay Service at 1-800-877-8339 and providing the Service with the conference call number and conference ID number.

Written comments may be mailed to the Regional Program Unit Office, U.S. Commission on Civil Rights, 230 S Dearborn St., Suite 2120, Chicago, IL 60604. They may also be faxed to the Commission at (312) 353-8324 or may be emailed to the Regional Director, Jeff Hinton at jhinton@usccr.gov. Records of the meeting will be available via www.facadatabase.gov under the Commission on Civil Rights, Florida Advisory Committee link. Persons interested in the work of this Committee are directed to the Commission's website, http://www.usccr.gov, or may contact the Regional Program Unit at the above email or street address.

Agenda

Welcome and Introductions

Discussion: Civil Rights Issues in Florida

Public Comment

Adjournment

Dated: November 8, 2018.
David Mussatt,
Supervisory Chief, Regional Programs Unit.

[FR Doc. 2018-24876 Filed 11-14-18; 8:45 am]

BILLING CODE P